NATIONAL AERONAUTICS AND SPACE ADMINISTRATION

[Notice: (16-018)]

NASA Advisory Council; Ad Hoc Task Force on STEM Education; Meeting

AGENCY: National Aeronautics and Space Administration.

ACTION: Notice of meeting.

SUMMARY: In accordance with the Federal Advisory Committee Act, Public Law 92-463, as amended, the National Aeronautics and Space Administration announces a meeting of the Ad Hoc Task Force on Science, Technology, Engineering and Mathematics (STEM) of the NASA Advisory Council (NAC). This Task Force reports to the NAC.

DATES: Thursday, March 24, 2016, 10:00 a.m. to 2:00 p.m., EST.

FOR FURTHER INFORMATION CONTACT: Dr. Beverly Girten, Executive Secretary for the NAC Ad Hoc Task Force on STEM Education, NASA Headquarters, Washington, DC 20546, 202-358-0212, or beverly.e.girten@nasa.gov.

SUPPLEMENTARY INFORMATION: The meeting will be open to the public telephonically and by WebEx. You must use a touch tone phone to participate in this meeting. Any interested person may dial the toll free access number 844-467-6272 or toll access number 720-259-6462, and then the numeric participant passcode: 329152 followed by the # sign. To join via WebEx on March 24, the link is https://nasa.webex.com/, the meeting number is 993 607 814 and the password is Educate1! (Password is case sensitive). Note: If dialing in, please “mute” your telephone. The agenda for the meeting will include the following:

—Opening Remarks by Chair

—Discussion of Observations Presented to NAC

—Plans to Implement Observations

—Office of Education Organization Update

—Future Topics

—Other Related Topics

It is imperative that the meeting be held on this date to accommodate the scheduling priorities of the key participants.

Patricia D. Rausch,
Advisory Committee Management Officer, National Aeronautics and Space Administration.

[FR Doc. 2016-04428 Filed 2-29-16; 8:45 am]

BILLING CODE 7510-13-P